DEPARTMENT OF ENERGY

Federal Energy Regulatory Commission

Combined Notice of Filings #1

Take notice that the Commission received the following electric rate filings:

Docket Numbers: ER24-2459-004.

Applicants: Tenaska Virginia Partners, L.P.

Description: Compliance filing: Compliance Filing of Tariff Records to Implement Settlement Rate to be effective 8/26/2024.

Filed Date: 12/17/25.

Accession Number: 20251217-5109.

Comment Date: 5 p.m. ET 1/7/26.

Docket Numbers: ER24-2459-005.

Applicants: Tenaska Virginia Partners, L.P.

Description: Compliance filing: Compliance Filing of Tariff Records to Implement Settlement Rate to be effective 2/1/2025.

Filed Date: 12/17/25.

Accession Number: 20251217-5114.

Comment Date: 5 p.m. ET 1/7/26.

Docket Numbers: ER26-791-000.

Applicants: Big Sky Wind, LLC.

Description: Compliance filing: Big Sky Wind Change in Status Filing to be effective N/A.

Filed Date: 12/16/25.

Accession Number: 20251216-5273.

Comment Date: 5 p.m. ET 1/6/26.

Docket Numbers: ER26-792-000.

Applicants: MATL LLP.

Description: 205(d) Rate Filing: TLIA and COA Filing to be effective 12/15/2025.

Filed Date: 12/17/25.

Accession Number: 20251217-5046.

Comment Date: 5 p.m. ET 1/7/26.

Docket Numbers: ER26-793-000.

Applicants: PJM Interconnection, L.L.C.

Description: 205(d) Rate Filing: Original NSA, Service Agreement No. 7790; Queue No. AE1-074 to be effective 2/16/2026.

Filed Date: 12/17/25.

Accession Number: 20251217-5054.

Comment Date: 5 p.m. ET 1/7/26.

Docket Numbers: ER26-794-000.

Applicants: PJM Interconnection, L.L.C.

Description: 205(d) Rate Filing: Amendment to GIA, SA No. 7451; Queue Nos. AG1-517 to be effective 2/16/2026.

Filed Date: 12/17/25.

Accession Number: 20251217-5173.

Comment Date: 5 p.m. ET 1/7/26.

Docket Numbers: ER26-795-000.

Applicants: PJM Interconnection, L.L.C.

Description: 205(d) Rate Filing: Revisions to Sch. 12—Appx A: Nov 2025 RTEP Baseline Upgrades to be effective 3/17/2026.

Filed Date: 12/17/25.

Accession Number: 20251217-5184.

Comment Date: 5 p.m. ET 1/16/26.

Docket Numbers: ER26-797-000.

Applicants: EdSan 2 Solar Storage, LLC.

Description: Initial Rate Filing: Market-Based Rate Application to be effective 2/16/2026.

Filed Date: 12/17/25.

Accession Number: 20251217-5195.

Comment Date: 5 p.m. ET 1/7/26.

Docket Numbers: ER26-798-000.

Applicants: Alabama Power Company, Georgia Power Company, Mississippi Power Company.

Description: 205(d) Rate Filing: Alabama Power Company submits tariff filing per 35.13(a)(2)(iii: SA Solar LGIA Amendment Filing to be effective 12/10/2025.

Filed Date: 12/17/25.

Accession Number: 20251217-5205.

Comment Date: 5 p.m. ET 1/7/26.

Docket Numbers: ER26-799-000.

Applicants: Alabama Power Company, Georgia Power Company, Mississippi Power Company.

Description: 205(d) Rate Filing: Alabama Power Company submits tariff filing per 35.13(a)(2)(iii: Peach Energy Storage Amended and Restated LGIA Filing to be effective 12/13/2025.

Filed Date: 12/17/25.

Accession Number: 20251217-5207.

Comment Date: 5 p.m. ET 1/7/26.

Docket Numbers: ER26-800-000.

Applicants: Alabama Power Company, Georgia Power Company, Mississippi Power Company.

Description: 205(d) Rate Filing: Alabama Power Company submits tariff filing per 35.13(a)(2)(iii: RWE Solar Development (Muletown Solar) Amended and Restated LGIA Filing to be effective 12/12/2025.

Filed Date: 12/17/25.

Accession Number: 20251217-5211.

Comment Date: 5 p.m. ET 1/7/26.

Docket Numbers: ER26-801-000.

Applicants: PJM Interconnection, L.L.C.

Description: 205(d) Rate Filing: Original NSA, Service Agreement No. 7775; AF1-147/AG1-221 to be effective 11/17/2025.

Filed Date: 12/17/25.

Accession Number: 20251217-5217.

Comment Date: 5 p.m. ET 1/7/26.

Docket Numbers: ER26-803-000.

Applicants: Alabama Power Company, Georgia Power Company, Mississippi Power Company.

Description: 205(d) Rate Filing: Alabama Power Company submits tariff filing per 35.13(a)(2)(iii: Decatur Energy Storage Surplus Interconnection Service Agreement Filing to be effective 12/5/2025.

Filed Date: 12/17/25.

Accession Number: 20251217-5223.

Comment Date: 5 p.m. ET 1/7/26.

Docket Numbers: ER26-804-000.

Applicants: Alabama Power Company, Georgia Power Company, Mississippi Power Company.

Description: 205(d) Rate Filing: Alabama Power Company submits tariff filing per 35.13(a)(2)(iii: SWE-Black Warrior Amended and Restated NITSA Filing to be effective 12/2/2025.

Filed Date: 12/17/25.

Accession Number: 20251217-5235.

Comment Date: 5 p.m. ET 1/7/26.

Docket Numbers: ER26-805-000.

Applicants: Alabama Power Company, Georgia Power Company, Mississippi Power Company.

Description: 205(d) Rate Filing: Alabama Power Company submits tariff filing per 35.13(a)(2)(iii: SWE-Tombigbee Amended and Restated NITSA Filing to be effective 12/2/2025.

Filed Date: 12/17/25.

Accession Number: 20251217-5240.

Comment Date: 5 p.m. ET 1/7/26.

Take notice that the Commission received the following qualifying facility filings:

Docket Numbers: QF26-319-000.

Applicants: MCH003-Z, LLC.

Description: Form 556 of MCH003-Z, LLC.

Filed Date: 12/16/25.

Accession Number: 20251216-5318.

Comment Date: 5 p.m. ET 1/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 17, 2025.
Carlos D. Clay,
Deputy Secretary.

[FR Doc. 2025-23563 Filed 12-19-25; 8:45 am]

BILLING CODE 6717-01-P